SURFACE TRANSPORTATION BOARD

[Docket No. FD 36154]

Goose Lake Railway, LLC—Change in Operator Exemption—LRY, LLC d.b.a. Lake Railway

Goose Lake Railway, LLC (GOOS),¹ a Class III rail carrier, has filed a verified notice of exemption under 49 CFR 1150.41 to assume operations over approximately 64.11 miles of rail line consisting of a part of the Modoc Subdivision from milepost 445.6 near MacArthur, Cal., to milepost 508.0 near Perez, Cal., and a portion of the Lakeview Branch extending from a connection with the Modoc Subdivision at milepost 456.89 to milepost 458.60, in Alturas, Cal. (the Line).

¹ In a previous proceeding, GOOS used the acronym GLRY to refer to itself. In keeping with the railroad's reporting mark issued by the Association of American Railroads, it now uses its reporting mark designation of GOOS. See Goose Lake Ry.—Change in Operator Exemption—LRY, LLC d.b.a. Lake Railway, FD 36143 (STB served Aug. 25, 2017).

GOOS states that the Line is owned by the Union Pacific Railroad Company (UP), and LRY, LLC d.b.a. Lake Railway (LRY) currently operates it pursuant to a lease agreement.² GOOS states that, under the new operating agreement, GOOS will replace LRY as the operator of the Line upon consummation and LRY will have no further common carrier obligation with respect to the Line. GOOS also states that LRY has agreed to terminate its operation over the Line upon consummation of the transaction between GOOS and UP and does not object to the proposed change in operators.

² See LRY, LLC—Lease & Operation Exemption—Union Pac. R.R., FD 35389 (STB served July 30, 2010); and LRY, LLC—Lease & Operation Exemption—Union Pac. R.R., FD 35250 (STB served Dec. 18, 2009).

GOOS states that the proposed change in operators does not involve any provision or agreement that would limit future interchange with a third-party connecting carrier. GOOS certifies that its projected annual revenues as a result of this transaction will not result in the creation of a Class II or Class I rail carrier and would not exceed $5 million.

Under 49 CFR 1150.42(b), a change in operators requires that notice be given to shippers. GOOS states that there are no active shippers on the Line and that all current freight traffic on the Line originates or terminates on connecting Lines. GOOS therefore submits that the shipper notice requirement is not applicable to this transaction.

The earliest this transaction can be consummated is November 19, 2017, the effective date of the exemption.

If the verified notice contains false or misleading information, the exemption is void ab initio. Petitions to revoke the exemption under 49 U.S.C. 10502(d) may be filed at any time. The filing of a petition to revoke will not automatically stay the effectiveness of the exemption. Petitions for stay must be filed no later than November 9, 2017 (at least seven days before the exemption becomes effective).

An original and 10 copies of all pleadings, referring to Docket No. FD 36154, must be filed with the Surface Transportation Board, 395 E Street SW., Washington, DC 20423-0001. In addition, one copy of each pleading must be served on Robert A. Wimbish, Fletcher & Sippel LLC, 29 North Wacker Drive, Suite 920, Chicago, IL 60606.

According to GOOS, this action is excluded from environmental review under 49 CFR 1105.6(c) and from historic preservation reporting requirements under 49 CFR 1105.8(b)(l).

Board decisions and notices are available on our Web site at WWW.STB.GOV.

Decided: October 27, 2017.
By the Board, Scott M. Zimmerman, Acting Director, Office of Proceedings.
Kenyatta Clay,
Clearance Clerk.

[FR Doc. 2017-23951 Filed 11-2-17; 8:45 am]

BILLING CODE 4915-01-P